DEPARTMENT OF DEFENSE

Office of the Secretary

Defense Science Board

AGENCY: Department of Defense.

ACTION: Notice of Advisory Committee meetings.

SUMMARY: The Defense Science Board Task Force on Joint Experimentation will meet in closed session on March 7, 2003, at Strategic Analysis Inc., 3601 Wilson Boulevard, Arlington, VA. This Task Force will examine joint experimentation programs and activities and will recommend ways to enhance the contributions of joint experimentation to transformation.

The mission of the Defense Science Board is to advise the Secretary of Defense and the Under Secretary of Defense for Acquisition, Technology & Logistics on scientific and technical matters as they affect the perceived needs of the Department of Defense. At this meeting, the Defense Science Board Task Force will review the Joint Forces Command's program of joint experimentation and recommend steps to enhance its value by examining the goals, process and substance of the experimentation program, to include: Creating an environment that fosters innovation and learning; collecting, analyzing, interpreting, vetting and disseminating data; engaging the Services, other Commands, key U.S. government agencies and allies; and developing and using models, simulations and other tools. In addition, the Task Force will review the recently completed Millennium Challenge 02 to identify insights and opportunities that may not have been focused on by those closer to the activity.

In accordance with section 10(d) of the Federal Advisory Committee Act, Public Law No. 92-463, as amended (5 U.S.C. App. II), it has been determined that this Defense Science Board Task Force meeting concerns matters listed in 5 U.S.C. 552b(c)(1) and that, accordingly, the meeting will be closed to the public.

Dated: February 14, 2003.
Patricia L. Toppings,
Alternative OSD Federal Register Liaison Officer, Department of Defense.

[FR Doc. 03-4790 Filed 2-27-03; 8:45 am]

BILLING CODE 5001-08-M